DEPARTMENT OF HEALTH AND HUMAN SERVICES

Administration for Children and Families

Proposed Information Collection Activity; ACF's Generic Clearance for Grant Reviewer Recruitment Forms (OMB #0970-0477)

AGENCY: Office of Planning, Research, and Evaluation; Administration for Children and Families; HHS.

ACTION: Request for public comment.

SUMMARY: The Administration for Children and Families (ACF), Office of Planning, Research, and Evaluation (OPRE) is proposing an extension of a currently approved generic clearance (OMB no. 0970-0477) for Grant Reviewer Recruitment (GRR) forms. The GRR forms will be used to select reviewers who will participate in the grant review process for the purpose of selecting successful applications.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION:

Description: Under this generic approval, ACF conducts and proposes to continue to conduct more than one information collection that is very similar, voluntary, low-burden and uncontroversial. The purpose is to select qualified reviewers for the grant peer review process based on professional qualifications using data entered by candidates and the uploaded writing sample and/or curriculum vitae and/or resume. The grant review process is in accordance with the U.S. Department of Health and Human Services' (DHHS) Grants Policy Directive (GPD) 2.04 “Awarding Grants”, the DHHS Awarding Agency Grants Administration Manual (AAGAM), Chapter 2.04.104C “Objective Review of Grant Applications”, and the Public Health Service (PHS) Act, Sections 799(f) and 806(e).

Respondents: Individuals who may apply to review ACF grant applications.

Annual Burden Estimates
Instrument | Total number of respondents | Number of responses per respondent | Average burden hours per response | Annual burden hours
Grant Reviewer Recruitment Form | 3,000 | 1 | .5 | 1,500

Estimated Total Annual Burden Hours: 1,500.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2019-02624 Filed 2-15-19; 8:45 am]

BILLING CODE 4184-79-P